DEPARTMENT OF LABOR

Employment and Training Administration

[TA-W-58,110]

Molnlycke Health Care, Inc., El Paso, TX; Notice of Termination of Investigation

Pursuant to section 221 of the Trade Act of 1974, an investigation was initiated on October 11, 2005 in response to a petition filed by a company official on behalf of workers at Molnlycke Health Care, Inc., El Paso, Texas.

The petitioner has requested that the petition be withdrawn. Consequently, the investigation has been terminated.

Signed in Washington, DC, this 14th day of October 2005.
Richard Church,
Certifying Officer, Division of Trade Adjustment Assistance.

[FR Doc. E5-5996 Filed 10-28-05; 8:45 am]

BILLING CODE 4510-30-P